DEPARTMENT OF HEALTH AND HUMAN SERVICES

Administration for Children and Families

[OMB No.: 0970-0288]

Proposed Information Collection Activity; Comment Request

Proposed Projects: Title: Evaluation of the Improving Child Welfare Outcome through Systems of Care Grant Program.

Description: The 1994 Amendments to the Social Security Act (SSA) authorize the U.S. Department of Health and Human Services to review State child and family service programs to ensure conformance with the requirements in titles IV-B and IV-E of SSA. Under the Final Rule, which took effect March 25, 2000, States are assessed for substantial conformity with certain Federal requirements for child-welfare services. The Child and Family Service Reviews (CFSR), administered by the Children's Bureau, are designed to ensure conformity with Federal child-welfare requirements and, ultimately, to help States improve child-welfare services and outcomes, specifically safety, permanency and well-being outcomes for child-welfare-involved children and their families. States determined not to have achieved substantial conformity in any of the areas assessed are required to develop and implement Program Improvement Plans (PIP) addressing the areas of nonconformity.

The Systems of Care grant cluster, from which these data are proposed to be collected, is designed to encourage public child-welfare agencies to address the issues identified in their State's CFSR. The data collected from these demonstration sites will allow the Children's Bureau to test whether this approach can help States reach the goals stated in their PIP and explore how child welfare can benefit from being part of a system of care. Data will be collected via interviews, forms completed by project staff, surveys, focus groups and case-file reviews. Data also will be collected to determine the extent to which the Technical Assistance (TA) provided, brokered or contracted by the TA and Evaluation Center is meeting the needs of the grantees, and how.

Respondents: Systems of Care Project Directors (members of the Systems of Care collaborative may include representatives from mental health, juvenile justice, education, health, among others); child-welfare agency supervisors and caseworkers; partner agency caseworkers; and families who have been involved with the child-welfare system.

Annual Burden Estimates
Instrument | Number of respondents | Number of responses per respondent | Average burden hours per response | Total burden hours
Stakeholder Survey | 270 | 1 | .5 | 135
Child-Welfare Agency Survey | 600 | 1 | 1 | 600
Supervisor Interviews | 90 | 1 | 1 | 90
Stakeholder Interviews | 90 | 1 | 1 | 90
Project Director Interviews | 23 | 1 | 1 | 23
Case Study Interviews | 25 | 1 | 1.5 | 37.5
Focus Group with Family Members | 102 | 1 | 1.5 | 153
Parent Partner Interviews | 24 | 1 | 1 | 24
Child-Welfare Agency and Partner Agency Focus Groups | 280 | 1 | 1.5 | 420
Community Description Form | 9 | 1 | 2.5 | 22.5
Organizational Structure Form for Case Study Sites | 3 | 1 | 2 | 6
Organizational Structure Form for Non-Case Study Sites | 20 | 1 | 1 | 20
Collaborative Membership Form | 23 | 1 | 1.5 | 34.5
Major Activities Form | 23 | 1 | 1.5 | 34.5
Training and Technical Assistance Quality Assurance Assessment | 23 | 1 | 1 | 23
Training and Technical Assistance Conference Call Feedback Forms | 10 | 12 | .25 | 30

Estimated Total Annual Burden Hours: 1,743.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 14, 2008.
Janean Chambers,
Reports Clearance Officer.

[FR Doc. E8-11188 Filed 5-20-08; 8:45 am]

BILLING CODE 4184-01-M